NUCLEAR REGULATORY COMMISSION

[NRC-2009-0485]

Draft Safety Culture Policy Statement: Request for Public Comments; Extension of Comment Period

AGENCY: Nuclear Regulatory Commission (NRC).

ACTION: Issuance of draft safety culture policy statement and notice of opportunity for public comment; Extension of comment period.

SUMMARY: On November 6, 2009, (74 FR 57525) (ML093030375), the Nuclear Regulatory Commission (NRC) published for public comment a draft policy statement on safety culture to include the unique aspects of nuclear safety and security, and to note the Commission's expectations that all NRC licensees and certificate holders establish and maintain a positive safety culture that protects public health and safety and the common defense and security when carrying out licensed activities. The comment period was scheduled to expire on February 4, 2010, which coincides with the final day of the first of three public workshops the NRC is conducting to solicit input relating to the development of the safety culture policy statement, including: (1) development of a common safety culture definition; and (2) development of high-level description/traits of areas important to safety culture. Based on comments from licensees that these workshops may stimulate additional comments on the final draft policy statement, the NRC has decided to extend the comment period on the draft policy statement from February 4, 2010, to March 1, 2010.

DATES: The comment period has been extended and now expires on March 1, 2010. Comments received after this date will be considered if it is practical to do so, but the Commission is able to ensure consideration only for comments received before this date.

ADDRESSES: You may submit comments by any one of the following methods. Please include Docket ID NRC-2009-0485 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0485. Address questions about NRC dockets to Carol Gallagher, 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Draft Safety Culture Policy Statement is available electronically under ADAMS Accession Number ML093030375.

Federal Rulemaking Web site: Public comments and supporting materials related to this notice can be found at http://www.regulations.gov by searching on Docket ID: NRC-2009-0485.

FOR FURTHER INFORMATION CONTACT: Alexander Sapountzis, Office of Enforcement, Mail Stop O-4 A15A, U.S. Nuclear Regulatory Commission, Washington, DC 20555-0001, or by e-mail to Alexander.Sapountzis@nrc.gov or Maria E. Schwartz, Office of Enforcement, Mail Stop O-4 A15A, U.S. Nuclear Regulatory Commission, Washington, DC 20555-0001, or by e-mail to Maria.Schwartz@nrc.gov.

For the Nuclear Regulatory Commission:
Dated at Rockville, Maryland, this 5th day of January 2010.
Roy P. Zimmerman,
Director, Office of Enforcement.

[FR Doc. 2010-335 Filed 1-11-10; 8:45 am]

BILLING CODE 7590-01-P